DEPARTMENT OF HEALTH AND HUMAN SERVICES

Centers for Disease Control and Prevention

[30Day-17-0260]

Agency Forms Undergoing Paperwork Reduction Act Review

The Centers for Disease Control and Prevention (CDC) has submitted the following information collection request to the Office of Management and Budget (OMB) for review and approval in accordance with the Paperwork Reduction Act of 1995. CDC previously published a “Proposed Data Collection Submitted for Public Comment and Recommendations” notice on May 31, 2017 to obtain comments from the public and affected agencies. CDC did not receive comments related to the previous notice. The purpose of this notice is to allow an additional 30 days for public comments.

Written comments and suggestions from the public and affected agencies concerning the proposed collection of information are encouraged. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Health Hazard Evaluation and Technical Assistance—Requests and Emerging Problems (OMB Control No. 0920-0260, Expiration Date 11/30/2017)—Revision—National Institute for Occupational Safety and Health (NIOSH), Centers for Disease Control and Prevention (CDC).

Background and Brief Description

The Occupational Safety and Health Act of 1970 and the Federal Mine Safety and Health Act of 1977, mandates the National Institute for Occupational Safety and Health (NIOSH) respond to requests for health hazard evaluations (HHE) to identify chemical, biological or physical hazards in workplaces throughout the United States. Each year, NIOSH receives approximately 290 such requests. Most HHE requests come from the following types of companies: Service, manufacturing, health and social services, transportation, construction, agriculture, mining, skilled trade and construction.

A printed HHE request form is available in English and in Spanish. The form is also available on the Internet and differs from the printed version only in format and in the fact that it can be submitted directly from the Web site. The request form takes an estimated 12 minutes to complete. The form provides the mechanism for employees, employers, and other authorized representatives to supply the information required by the regulations governing the NIOSH HHE program (42 CFR 85.3-1). The information provided is used by NIOSH to determine whether there is reasonable cause to justify conducting an investigation and provides a mechanism to respond to the requestor.

NIOSH reviews the HHE request to determine if an on-site evaluation is needed. The primary purpose of an on-site evaluation is to help employers and employees identify and eliminate occupational health hazards. For 40% of the requests received NIOSH determines an on-site evaluation is needed.

In about 70% of on-site evaluations, employees are interviewed to help further define concerns. Interviews may take approximately 15 minutes per respondent. The interview questions are specific to each workplace and its suspected diseases and hazards.

In approximately 30% of on-site evaluations (presently estimated to be 37 facilities), questionnaires are distributed to the employees (averaging about 100 employees per site). Questionnaires may require approximately 30 minutes to complete. The survey questions are specific to each workplace and its suspected diseases and hazards, however, items in the questionnaires are derived from standardized or widely used medical and epidemiologic data collection instruments.

NIOSH administers a follow-back program to assess the effectiveness of its HHE program in reducing workplace hazards. The first follow-back questionnaire is sent shortly after the first visit for an on-site evaluation and takes about 10 minutes to complete. A second follow-back questionnaire is sent a month after the final report and requires about 20 minutes to complete. At 24 months, a third follow-back questionnaire is sent which takes about 15 minutes to complete. The first and third follow-back questionnaires have had minor re-wording of questions to improve the ease of responding with no change in information requested or estimated time to complete. The second follow-back questionnaire has added new questions regarding final report content and format. This accounts for the additional 5 minute increase in estimated completion time from the 2014 revision of the second follow-back questionnaire.

For requests where NIOSH does not conduct an on-site evaluation, the requestor receives the first follow-back questionnaire 1 month after our report and a second one 12 months after our response. The first questionnaire takes about 10 minutes to complete and the second questionnaire takes about 15 minutes to complete. No changes other that for some minor re-wording of questions have been made. No additional information is collected and the time estimates for completion remain unchanged.

Minimal changes have been made to the request form for Health Hazard Evaluations. The revisions made in this package are minor re-wording of questions contained in four of the five follow-back questionnaires to improve the ease of responding by the questionnaire recipients.

There is no cost to respondents other than their time. The total estimated annual burden hours are 2,959. This is 61 hours less than the 3,020 hours approved for the 2014 revision. This reflects both a slight decrease in the anticipated number of Health Hazard Evaluation requests (300 to 290) as well as changes in the response requirements of requests received based upon recent program experience.

Estimated Annualized Burden Hours
Type of respondent | Form | Number of respondents | Number of responses per respondent | Average burden per response (in hours)
Employees/employee representatives/or employers | Health Hazard Evaluation Request Form | 290 | 1 | 12/60
Employees | Health Hazard Evaluation specific interview example | 2,580 | 1 | 15/60
Employees | Health Hazard Evaluation specific question­naire example | 3,700 | 1 | 30/60
Employees | Employee Contact Postcard | 2,150 | 1 | 5/60
Follow-back for onsite evaluations—employer & employee representative Year 1 | Initial Site Visit Followback Survey form | 244 | 1 | 10/60
Employer & employee representative Year 1 | Closeout for Health Hazard Evaluation Followback Survey with site visit | 244 | 1 | 20/60
Employer & employee representative Year 2 | 1 Year Later for Health Hazard Evaluation Followback Survey with site visit | 244 | 1 | 15/60
Follow-back for evaluations without onsite—employer & employee representative Year 1 | Closeout for Health Hazard Evaluation without site visit | 98 | 1 | 10/60
Employer & employee representative Year 2 | 1 Year Later for Health Hazard Evaluation without site visit | 98 | 1 | 15/60

Leroy A. Richardson,
Chief, Information Collection Review Office, Office of Scientific Integrity, Office of the Associate Director for Science, Office of the Director, Centers for Disease Control and Prevention.

[FR Doc. 2017-19744 Filed 9-15-17; 8:45 am]

BILLING CODE 4163-18-P